DEPARTMENT OF DEFENSE

Department of the Navy

Notice of Intent To Grant Exclusive or Partially Exclusive Patent License; InnovaLight, Inc.

AGENCY: Department of the Navy, DOD.

ACTION: Notice.

SUMMARY: The Department of the Navy hereby gives notice of its intent to grant to InnovaLight Inc., a revocable, nonassignable, exclusive or partially exclusive license in the United States to practice the Government-Owned inventions described in U.S. Patent No. 5,962,863, issued October 5, 1999 and U.S. Patent No. 6,103,540, issued August 15, 2000, and both entitled “Laterally Disposed Nanostructures of Silicon on an Insulating Substrate.”

DATES: Anyone wishing to object to the granting of this license has (15) days from the date of this notice to file written objections along with supporting evidence, if any.

ADDRESSES: Written objections are to be filed with the Office of Patent Counsel, Space and Naval Warfare Systems Center, San Diego, Code 20012, 53510 Silvergate Ave., Room 103, San Diego, CA 92152-5765.

FOR FURTHER INFORMATION CONTACT: Mr. Peter A. Lipovsky, Space and Naval Warfare Systems Center, San Diego, Code 20012, 53510 Silvergate Ave., Room 103, San Diego, CA 92152-5765, telephone (619) 553-3824.

(Authority: 35 U.S.C. 207, 37 CFR part 404.)

Dated: September 17, 2003.
E.F. McDonnell,
Major, U.S. Marine Corps, Federal Register Liaison Officer.

[FR Doc. 03-25061 Filed 10-2-03; 8:45 am]

BILLING CODE 3810-FF-P